DEPARTMENT OF THE INTERIOR

National Park Service

36 CFR Chapter I

Negotiated Rulemaking Advisory Committee for Off-Road Driving Regulations at Fire Island National Seashore

AGENCY: National Park Service, Interior.

ACTION: Notice of intent to establish a negotiated rulemaking advisory committee.

SUMMARY: The Secretary of the Interior is giving notice of his intent to establish the Negotiated Rulemaking Advisory Committee for Off-Road Driving Regulations at Fire Island National Seashore to negotiate and develop a proposed rule revising off-road vehicle use regulations at Fire Island National Seashore.

DATES: Interested persons are invited to comment on the proposal to create this Committee. In addition, any persons who believe that they will be affected significantly by the proposed rule and who believe their interests will not be represented adequately by the persons identified in this Notice of Intent are invited to apply for or nominate another person for membership on the Committee. Each application must contain the information described in the “Application for Membership” section below. Applications or nominations for membership on the Committee must be received by close of business on December 27, 2000.

ADDRESSES: Comments and applications for membership should be submitted to Constantine J. Dillon, Superintendent, Fire Island National Seashore, 120 Laurel Street, Patchogue, New York 11772. Comments and applications received will be available for inspection at the address listed above from 8 a.m., to 4:30 p.m., EST, Monday through Friday.

FOR FURTHER INFORMATION CONTACT: Constantine J. Dillon, Superintendent, Fire Island National Seashore, 120 Laurel Street, Patchogue, New York 11772; 631-289-4810, extension 225.

SUPPLEMENTARY INFORMATION: The Secretary has determined that the establishment of this committee is in the public interest and supports the National Park Service in performing its duties and responsibilities under the National Park Service Organic Act, 16 U.S.C. 1 et seq; the Endangered Species Act, 16 U.S.C. 1531 et seq; and the Fire Island National Seashore Act, 16 U.S.C. 459e et seq. Copies of the committee's charter will be filed with the appropriate committees of Congress and with the Library of Congress in accordance with section 9(c) of the Federal Advisory Committee Act, 5 U.S.C. Appendix. Establishment of the Committee is in accordance with the Negotiated Rulemaking Act of 1990, 5 U.S.C. 564,

The Committee will attempt, via face-to-face negotiations, to reach consensus on concepts and language to use as the basis for a proposed rule to be published by the NPS in the Federal Register that would revise existing regulations codified at 36 CFR 7.20. The existing regulations have not been effective in resolving longstanding and controversial resource management and public use conflicts at the Seashore. With the participation of knowledgeable, affected parties, NPS expects to develop a practical approach to addressing these management and public use issues involving the protection of beach environments, their associated floral and faunal communities, and the public's desire for access to Federal lands by motorized vehicles for access to homes and businesses on the island.

Scope of the Proposed Rule

Within the constraints of NPS statutory responsibilities to preserve natural and cultural resources and to provide for their enjoyment, the Committee will evaluate and address key issues including, but not limited to, the designation of specific off-road vehicle routes and areas; the periods of the year and times of day during which off-road vehicles may be operated; the number and type of vehicles; procedures for permits; and other conditions that govern the operation of off-road vehicles at Fire Island National Seashore. It is anticipated that the Committee will develop proposed regulations in all of the above-referenced areas.

List of Interests Significantly Affected

The National Park Service has identified a number of interests who are likely to be affected significantly by the rule. Those parties are residents of Fire Island; conservation and environmental organizations; recreational fishing organizations; off-road vehicle organizations; local town governments; commercial interests; and Federal, State and regional land use management and wildlife management agencies. Other parties who believe they are likely to be affected significantly by the rule may apply for membership on the Committee pursuant to the “Application for Membership” section below.

Proposed Agenda and Schedule for Publication of Proposed Rule

Members of the Committee, with the assistance of a neutral facilitator, will determine the agenda for the Committee's work. The National Park Service expects to publish a proposed rule in the Federal Register before January 1, 2002.

Records of Meetings

In accordance with the requirements of the Federal Advisory Committee Act, 5 U.S.C. Appendix 1994, the National Park Service will keep a record of all Committee meetings.

Administrative Support

To the extent authorized by law, the National Park Service will fund the costs of the Committee and provide administrative support and technical assistance for the expertise in resource management and operations to facilitate the Committee's work.

Committee Membership

In accordance with the Negotiated Rulemaking Act, membership is limited to 25. The following membership is proposed for the Negotiated Rulemaking Advisory Committee for Off-Road Driving Regulations at Fire Island National Seashore.

1. The interests of the Department of the Interior will be represented by:

a. National Park Service—Constantine J. Dillon, Superintendent, Fire Island National Seashore.

Alternate—Barry Sullivan, Deputy Superintendent, Fire Island National Seashore.

2. The interests of environmental organizations and visitors will be represented by:

a. Environmental Organizations.

(1) Art Cooley, Trustee, Environmental Defense Fund.

Alternate—Joe Zysman, Fire Island Wilderness Committee.

(2) Jack Finkenberg, Vice President, Great South Bay Audubon Society.

Alternate—James Seymour, Fire Island Ecology Coalition.

b. Visitors: Lee Snead, Visitors Representative at Large.

Alternate—None.

3. The interests of the essential services will be represented by:

a. Utility Companies: Ed Fanning, Supervisor, Bell Atlantic.

Alternate—None.

b. Garbage Carters: Barry Weatherall, Carters Representative at Large.

Alternate—Peter Vogel, Carters Representative at Large.

c. Suffolk County Water Authority: Robert Murray, Director of Production and Control, Suffolk County Water Authority.

Alternate—Paul Kuzman, Deputy Director, Suffolk County Water Authority.

d. Fire Island Fire Chiefs Council: Robert Thornberg, President, Fire Island Fire Chiefs Council.

Alternate—None.

e. Suffolk County Police: Peter J. Quinn, Commanding Officer, Marine Bureau.

Alternate—Robert Muller, Captain, Marine Bureau.

f. Fire Island Law Enforcement Council: Ed Paradiso, Co-Chairperson, Fire Island Law Enforcement Council.

Alternate—Joseph Loeffler, Co-Chairperson, Fire Island Law Enforcement Council.

4. Commercial businesses, transportation, and contracting interests will be represented by:

a. On-Island Contractors: Forrest Clock, On-Island Contractors Representative at Large.

Alternate—None.

b. Off-Island Contractors: Donald Quenzer, Off-Island Contractors Representative at Large.

Alternate—James Wikso, Off-Island Contractors Representative at Large.

c. Barge/Freight Companies: Thomas Esposito, Barge/Freight Companies Representative at Large.

Alternate—Steven Young, Barge/Freight Companies Representative at Large.

d. Ferry Companies: George Hafele, Ferry Companies Representative at Large.

Alternate—Luke Kaufman, Ferry Companies Representative at Large.

5. The interests of local town governments and residents will be represented by:

a. West End Representatives.

(1) Suzie Goldhirsch, West End Visitors Representative at Large.

Alternate—Beverly Jerome, West End Visitors Representative at Large.

(2) Thomas Schwarz, West End Visitors Representative at Large.

Alternate—Arthur Weinstein, West End Visitors Representative at Large.

b. East End Representative: John Lund, East End Visitors Representative at Large.

Alternate—Marc Ostfield, East End Visitors Representative at Large.

c. Year-Round and Seasonal Residents: Gerard Stoddard, President, Fire Island Association.

Alternate—None.

d. Year-Round Residents: Kevin Gillespie, President, Fire Island Year Round Resident Association.

Alternate—Beatrice Thornberg, Member, Fire Island Year Round Resident Association.

e. Town of Islip: Ernie Cannava, Attorney, Town of Islip.

Alternate—Sadat Beqaj, Chairperson, Town of Islip Advisory Board.

f. Town of Brookhaven: Jeffrey Kassner, Director, Division of Environmental Protection.

Alternate—Anthony Graves, Assistant Director, Division of Environmental Protection.

g. Village of Saltaire: Anna Hannon Gill, Village Trustee.

Alternate—Scott Rosenblum, Village Trustee.

h. Village of Ocean Beach: James Mallott, Village Trustee.

Alternate—Andrew Miller, Village Trustee.

Application for Membership

Persons who believe that they will be affected significantly by proposals to revise off-road vehicle use regulations at Fire Island National Seashore and who believe that interests will not be represented adequately by any person identified in the “Committee Membership” section above, may apply for or nominate another person for membership on the Negotiated Rulemaking Advisory Committee for Off-Road Driving Regulations at Fire Island National Seashore. In order to be considered, each application or nomination must include:

1. The name of the applicant or nominee and a description of the interest(s) such person is to represent;

2. Evidence that the applicant or nominee is authorized to represent parties related to the interest(s) the person is proposed to represent;

3. A written commitment that the applicant or nominee will actively participate in good faith in the development of the proposed rule; and

4. The reasons that the proposed members of the committee identified above do not represent the interests of the person submitting the application or nomination.

To be considered, the application must be complete and received by the close of business on December 27, 2000, at the location indicated in the ADDRESSES section above. Full consideration will be given to all applications and nominations timely submitted. The decision whether or not to add a person to the Negotiated Rulemaking Advisory Committee for Off-Road Driving Regulations at Fire Island National Seashore will be based on a determination by the National Park Service whether an interest of that person will be affected significantly by the proposed rule; whether that interest is already represented adequately on the Committee, and if not, whether the applicant or nominee would represent it adequately.

Certification

I hereby certify that the administrative establishment of the Negotiated Rulemaking Advisory Committee for Off-Road Driving Regulations at Fire Island National Seashore is necessary and in the public interest in connection with the performance of duties imposed on the Department of the Interior by the Act of August 25, 1916, 16 U.S.C. 1 et seq., and other statutes relating to the administration of the National Park System.

Dated: October 25, 2000.
Bruce Babbitt,
Secretary of the Interior.

[FR Doc. 00-29119 Filed 11-24-00; 8:45 am]

BILLING CODE 4310-70-U